DEPARTMENT OF THE INTERIOR

Fish and Wildlife Service

[FWS-R5-ES-2018-N163; FXES11130500000-190-FF05E00000]

Endangered and Threatened Species; Receipt of Recovery Permit Applications

AGENCY: Fish and Wildlife Service, Interior.

ACTION: Notice of receipt of permit applications; request for comments.

SUMMARY: We, the U.S. Fish and Wildlife Service, have received applications for permits to conduct activities intended to enhance the propagation or survival of endangered or threatened species under the Endangered Species Act. We invite the public and local, State, Tribal, and Federal agencies to comment on these applications. Before issuing any of the requested permits, we will take into consideration any information that we receive during the public comment period.

DATES: We must receive your written comments on or before April 3, 2019.

ADDRESSES: Use one of the following methods to request documents or submit comments. Requests and comments should specify the applicant name(s) and application number(s) (e.g., TE123456):

• Email: permitsR5ES@fws.gov.

• U.S. Mail: Abby Gelb, Ecological Services, U.S. Fish and Wildlife Service, 300 Westgate Center Dr. Hadley, MA 01035.

FOR FURTHER INFORMATION CONTACT: Abby Gelb, 413-253-8212 (phone), or permitsR5ES@fws.gov (email). Individuals who are hearing or speech impaired may call the Federal Relay Service at 1-800-877-8339 for TTY assistance.

SUPPLEMENTARY INFORMATION: We, the U.S. Fish and Wildlife Service, invite the public to comment on applications for permits under section 10(a)(1)(A) of the Endangered Species Act of 1973, as amended (ESA; 16 U.S.C. 1531 et seq.). The requested permits would allow the applicants to conduct activities intended to promote recovery of species that are listed as endangered or threatened under the ESA.

Background

With some exceptions, the ESA prohibits activities that constitute take of listed species unless a Federal permit is issued that allows such activity. The ESA's definition of “take” includes such activities as pursuing, harassing, trapping, capturing, or collecting in addition to hunting, shooting, harming, wounding, or killing.

A recovery permit issued by us under section 10(a)(1)(A) of the ESA authorizes the permittee to conduct activities with endangered or threatened species for scientific purposes that promote recovery or for enhancement of propagation or survival of the species. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

We invite local, State, and Federal agencies; Tribes; and the public to comment on the following applications.

Application No. | Applicant | Species | Location | Activity | Type of take | Permit action
TE18372D | U.S. Fish and Wildlife Service, Hadley, MA | Amphibians: Shenandoah salamander (Plethodon shenandoah); Birds: Piping plover (Charadrius melodus), Red-cockaded woodpecker (Picoides borealis), Roseate tern (Sterna dougallii dougallii); Fish: Atlantic salmon (Salmo salar), Diamond darter (Crystallaria cincotta), Duskytail darter (Etheostoma percnurum), Maryland darter (Etheostoma sellare), Roanoke logperch (Percina rex); | CT, DE, MA, MD, ME, NH, NJ, NY, PA, RI, VA, VT, WV, DC | Survey, capture, collect, handle, transport, release, selective euthanize, propagate, translocate, reintroduce | Harass, harm, pursue, wound, lethal collection, trap, capture, or collect | Renew.
|  | Invertebrates: American burying beetle (Nicrophorus americanus), Appalachian monkeyface pearlymussel (Quadrula sparsa), Birdwing pearlymussel (Lemiox rimosus), Clubshell mussel (Pleurobema clava), Cracking pearlymussel (Hemistena lata), Cumberland bean pearlymussel (Villosa trabalis), Cumberland monkeyface pearlymussel (Quadrula intermedia), Cumberlandian combshell mussel (Epioblasma brevidens), Dromedary pearlymussel (Dromus dromas), Dwarf wedgemussel (Alasmidonta heterodon), Fanshell mussel (Cyprogenia stegaria), Fine-rayed pigtoe mussel (Fusconaia cuneolus), Fluted kidneyshell mussel (Ptychobranchus subtentum), Green blossom pearlymussel (Epioblasma torulosa gubernaculum), Guyandotte River crayfish (Cambarus veteranus), Hay's Spring amphipod (Stygobromus hayi), James spinymussel (Pleurobema collina), Karner blue butterfly (Lycaeides melissa samuelis), Lee County cave isopod (Lirceus usdagalun), Littlewing pearlymussel (Pegias fabula), Mitchell's satyr butterfly (Neonympha mitchellii mitchellii), Northern riffleshell mussel (Epioblasma torulosa rangiana), Orangefoot pimpleback pearlymussel (Plethobasus cooperianus), Oyster mussel (Epioblasma capsaeformis), Pink mucket pearlymussel (Lampsilis abrupta), Purple bean mussel (Villosa perpurpurea), Rayed bean mussel (Villosa fabalis), Ring pink mussel (Obovaria retusa), Rough pigtoe mussel (Pleurobema plenum), Rough rabbitsfoot (Quadrula cylindrica strigillata), Rusty patched bumble bee (Bombus affinis), Sheepnose mussel (Plethobasus cyphyus), Shiny pigtoe mussel (Fusconaia cor), Slabside pearlymussel (Pleuronaia dolabelloides), Snuffbox mussel (Epioblasma triquetra), Spectaclecase mussel (Cumberlandia monodonta), Spruce-fir moss spider (Microhexura montivaga), Tan riffleshell mussel (Epioblasma florentina walkeri), Tubercled blossom pearlymussel (Epioblasma torulosa torulosa), Virginia fringed mountain snail (Polygyriscus virginianus);
|  | Mammals: Carolina northern flying squirrel (Glaucomys sabrinus coloratus), Gray bat (Myotis grisescens), Gray wolf (Canis lupus), Indiana bat (Myotis sodalis), Virginia big-eared bat (Corynorhinus townsendii virginianus);
|  | Reptiles: Hawksbill sea turtle (Eretmochelys imbricata), Kemp's ridley sea turtle (Lepidochelys kempii), Leatherback sea turtle (Dermochelys coriacea), Northern red-bellied turtle (Pseudemys rubriventris);
|  | Plants: American chaffseed (Schwalbea americana), Canby's dropwort (Oxypolis canbyi), Furbish lousewort (Pedicularis furbishiae), Harperella (Ptilimnium nodosum), Jesup's milk-vetch (Astragalus robbinsii var. jesupi), Michaux's sumac (Rhus michauxii), Northeastern bulrush (Scirpus ancistrochaetus), Peter's Mountain mallow (Iliamna corei), Roan Mountain bluet (Hedyotis purpurea var. montana), Rock gnome lichen (Gymnoderma lineare), Running buffalo clover (Trifolium stoloniferum), Sandplain gerardia (Agalinis acuta), Schweinitz's sunflower (Helianthus schweinitzii), Shale barren rock cress (Arabis serotina), Small-anthered bittercress (Cardamine micranthera), Smooth coneflower (Echinacea laevigata).
TE01086D | Aquatic Wildlife Conservation Center, Virginia Department of Game and Inland Fisheries, Marion, VA | Appalachian monkeyface (Quadrula sparsa), Birdwing pearlymussel (Lemiox rimosus), Cracking pearlymussel (Hemistena lata), Cumberland monkeyface (Quadrula intermedia), Cumberlandian combshell (Epioblasma brevidens), Dromedary pearlymussel (Dromus dromas), Fanshell (Cyprogenia stegaria), Finerayed pigtoe (Fusconaia cuneolus), Fluted kidneyshell (Ptychobranchus subtentum), Green blossom (Epioblasma torulosa gubernaculum), Littlewing pearlymussel (Pegias fabula), Oyster mussel (Epioblasma capsaeformis), Pink mucket (Lampsilis abrupta), Purple bean (Villosa perpurpurea), Rough pigtoe (Pleurobema planum), Rough rabbitsfoot (Quadrula cylindrica strigillata), Sheepsnose Mussel (Plethobasus cyphyus), Shiny pigtoe (Fusconaia cor), Slabside Pearlymussel (Pleuronaia dolabelloides), Snuffbox mussel (Epioblasma triquetra), Spectaclecase mussel (Cumberlandia monodonta), Tan riffleshell (Epioblasma florentina walkeri) | VA, TN | Collect adults as broodstock and ark populations; propagate; release juveniles and adults | Capture, collect, transport, propagate, release, reintroduce | Renew.

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. Moreover, all submissions from organizations or businesses, and from individuals identifying themselves as representatives or officials of organizations or businesses, will be made available for public disclosure in their entirety.

Next Steps

If we decide to issue permits to any of the applicants listed in this notice, we will publish a notice in the Federal Register.

Authority

Section 10(c) of the Endangered Species Act of 1973, as amended (16 U.S.C. 1531 et seq.).

Martin Miller,
Chief, Division of Endangered Species, Ecological Services, Northeast Region.

[FR Doc. 2019-03779 Filed 3-1-19; 8:45 am]

BILLING CODE 4333-15-P